DEPARTMENT OF DEFENSE

Department of the Army

Draft Environmental Impact Statement for Short-Term Projects and Real Property Master Plan Update for Fort Belvoir, Virginia

AGENCY: Department of the Army, DoD.

ACTION: Notice of Availability.

SUMMARY: The Department of the Army announces the availability of the Draft Environmental Impact Statement (DEIS) for the proposed update of the Real Property Master Plan (RPMP) for Fort Belvoir, Virginia, which includes proposed short-term projects and long-term development. In accordance with the National Environmental Policy Act (NEPA), the DEIS analyzes the environmental impacts associated with the proposed short-term projects, long-term development, and anticipated land use changes designated in an updated RPMP. The short-term projects are proposed for implementation by 2017. The long-term development projects are proposed for implementation by 2030. The DEIS assesses potential environmental impacts associated with future development and management of land, facilities, resources, and infrastructure. The updated RPMP incorporates adjustments to the land use plan in the RPMP that were made in the Final EIS for the Implementation of 2005 Base Realignment and Closure (BRAC) Recommendations and Related Army Actions at Fort Belvoir, Virginia (2007) and BRAC-related changes made since 2007.

DATES: The public comment period will end 60 days after publication of the NOA in the Federal Register by the U.S. Environmental Protection Agency.

ADDRESSES: Please send written comments to: Fort Belvoir Directorate of Public Works, Environmental and Natural Resources Division, Re: Real Property Master Plan EIS, 9430 Jackson Loop, Suite 200, Fort Belvoir, VA 22060-5116; or by email to imcom.fortbelvoir.dpw.environmental@us.army.mil.

FOR FURTHER INFORMATION CONTACT: Please contact: Fort Belvoir Directorate of Public Works, Environmental and Natural Resources Division, (703) 806-3193 or (703) 806-0020, during normal working business hours, Monday through Friday, 8 a.m. to 4:00 p.m.; or by email to imcom.fortbelvoir.dpw.environmental@us.army.mil.

SUPPLEMENTARY INFORMATION: The RPMP and the DEIS focus on Fort Belvoir's Main Post (7,700 acres) and the Fort Belvoir North Area (800 acres, formerly called the Engineer Proving Ground). The RPMP update does not cover Fort Belvoir property at Rivanna Station in Charlottesville, VA; the Mark Center in Alexandria, VA; or the Humphreys Engineer Center, adjacent to Main Post.

The DEIS analyzes the environmental impacts of the short-term projects currently programmed for construction in fiscal years 2013 to 2017. These projects include new office buildings, community and recreational facilities, a Fisher House, industrial and maintenance facilities, roads, a new gate, and the National Museum of the U.S. Army. Some projects have already begun or have been completed; the cumulative impacts of these projects are analyzed in the DEIS.

The Army is also updating its RPMP for Fort Belvoir by analyzing the off-post and on-post environmental impacts of reasonably foreseeable future development. The DEIS assesses the potential direct, indirect, and cumulative environmental impacts associated with updating the RPMP to meet the Army's current and future planning needs. Additional site-specific NEPA analyses will be prepared, as required, for the short-term and long-term projects identified in the RPMP.

Four alternatives are analyzed in this DEIS: No Action, Full Implementation, Modified Long-Term, and Modified Short-Term. The alternatives reflect various scenarios for short-term and long-term development. Other alternatives are considered in the DEIS, but they were determined not to be reasonable and therefore not subject to further analysis.

(1) The No Action Alternative proposes maintaining current conditions and the 1993 RPMP (as amended in the 2007 BRAC EIS) would remain in effect. The workforce would remain near the post-BRAC, September, 2011 workforce of approximately 39,000.

(2) The Full Implementation Alternative (the Preferred Alternative) would implement the revised RPMP and all short-term and long-term projects. If the proposed short-term projects were completed as proposed under this alternative, approximately 5,000 employees would be added to the post's workforce by 2017. If the long-term development projects were completed as proposed under this alternative, an additional 12,000 employees would be added, bringing the total 2030 workforce to approximately 56,000.

(3) The Modified Long-Term Alternative proposes implementing the revised RPMP, all but two short-term projects proposed under the Full Implementation Alternative, and all but one of the long-term projects proposed under the Full Implementation Alternative. A proposed secure administrative campus on the Fort Belvoir North Area would not be built. Two of the short-term projects would be delayed to 2018 or later. Under this alternative, the total 2030 workforce would be approximately 50,000.

(4) The Modified Short-Term Alternative proposes implementing the revised RPMP, most of the short-term projects, and all of the long-term projects but most short-term projects would be delayed until after 2017. Under this alternative, the total 2030 workforce would be approximately 55,000.

Following issuance of the EIS Notice of Intent in September 2012, “Short-Range Projects” in the EIS title changed to “Short-Term Projects” to align with Unified Facilities Criteria 2-100-01,Installation Master Planning.

The DEIS evaluates the impacts of the alternatives on land use; socioeconomics, community facilities, and environmental justice; cultural resources; transportation and traffic; air quality; noise; geology, topography, and soils; water resources; biological resources; hazardous materials; utilities; and energy use and sustainability. The only resource that would sustain significant adverse impacts is transportation and traffic; impacts would be significant under all three action alternatives. Mitigation is identified for traffic impacts on Fort Belvoir and roadways in the vicinity of Fort Belvoir. While no significant adverse impacts are expected to biological resources, mitigations are proposed for tree removal.

All government agencies, special interest groups, and individuals are invited to attend the public meeting and/or submit their comments in writing. Information on the date, time and location of the public meeting will be published locally.

Copies of the DEIS are available at the: Van Noy Library, Fort Belvoir; John Marshall Library, Alexandria, VA; Sherwood Regional Library, Alexandria, VA; Chinn Park Library, Woodbridge, VA; Kingstowne Library, Alexandria, VA; and Lorton Library, Lorton, VA. The DEIS can also be viewed at the following Web site: https://www.belvoir.army.mil/environdocssection9.asp.

Brenda S. Bowen,
Army Federal Register Liaison Officer.

[FR Doc. 2014-21663 Filed 9-10-14; 8:45 am]

BILLING CODE 3710-08-P